DEPARTMENT OF HOUSING AND URBAN DEVELOPMENT

[Docket No. FR-6372-N-01]

Request for Information Regarding HUD's Learning Agenda Supplement: Fiscal Year 2023

AGENCY: Office of the Assistant Secretary for Policy Development and Research, Department of Housing and Urban Development, HUD.

ACTION: Request for information.

SUMMARY: Developing and using rigorous research and relevant evidence is essential for HUD's mission of creating strong, sustainable, inclusive communities and quality, affordable homes for all. In March 2022, HUD published its first Department-wide HUD Learning Agenda: FY 2022-2026 (the “Learning Agenda”), identifying the Department's priority learning and evidence needs and proposing research, evaluation, and data linkage projects to address those needs. The Learning Agenda covers a period of five years, with an annual review and update process. Through this Request for Information (RFI), HUD's Office of Policy Development and Research (PD&R) seeks public input regarding potential additions and adjustments to the Department's published Learning Agenda to reflect changes in learning priorities since March 2022. Information provided in response to this RFI will inform the development of the “Learning Agenda Supplement: Fiscal Year 2023” that HUD will publish to accompany the 2022-2026 Learning Agenda to document updates to the Department's priority learning needs.

DATES: Comments are requested on or before April 10, 2023. Late-filed comments will be considered to the extent practicable.

ADDRESSES: Interested persons are invited to submit comments responsive to this RFI. All submissions must refer to the docket number and title of the RFI. Commenters are encouraged to identify the number of the specific question or questions to which they are responding. Responses may include the name(s) of the person(s) or organization(s) filing the comment; however, because any responses received by HUD will be publicly available, responses should not include any personally identifiable information or confidential commercial information.

There are two methods for submitting public comments.

1. Electronic Submission of Comments. Interested persons may submit comments electronically through the Federal eRulemaking Portal at http://www.regulations.gov.

2. Submission of Comments by Mail. Comments may be submitted by mail to the Regulations Division, Office of General Counsel, Department of Housing and Urban Development, 451 7th Street SW, Room 10276, Washington, DC 20410-0500.

HUD strongly encourages commenters to submit their feedback and recommendations electronically. Electronic submission of comments allows the commenter maximum time to prepare and submit a response, ensures timely receipt by HUD, and enables HUD to make comments immediately available to the public. Comments submitted electronically through the http://www.regulations.gov website can be viewed by other commenters and interested members of the public. Commenters should follow the instructions provided on that site to submit comments electronically.

Note: To receive consideration as public comments, comments must be submitted through one of the two methods specified above. Again, all submissions must refer to the docket number and title of the RFI.

Public Inspection of Public Comments. HUD will make all properly submitted comments and communications available for public inspection and copying during regular business hours at the above address. Due to security measures at the HUD Headquarters building, an advance appointment to review the public comments must be scheduled by calling the Regulations Division at (202) 708-3055 (this is not a toll-free number). HUD welcomes and is prepared to receive calls from individuals who are deaf or hard of hearing, as well as individuals with speech or communication disabilities. To learn more about how to make an accessible telephone call, please visit https://www.fcc.gov/consumers/guides/telecommunications-relay-service-trs. Copies of all comments submitted are available for inspection and downloading at www.regulations.gov.

FOR FURTHER INFORMATION CONTACT: Jennifer Turnham, Director, Policy Development Division, Office of Policy Development and Research, Department of Housing and Urban Development, 451 7th Street SW, Room 9266, Washington, DC 20410-0500; telephone number 202-402-6021 (this is not a toll-free number), or via email at HUDLearningAgenda@huduser.gov. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

Developing and using rigorous research and relevant evidence is essential for HUD's mission of creating strong, sustainable, inclusive communities and quality, affordable homes for all. In March 2022, HUD published its first Department-wide HUD Learning Agenda: FY 2022-2026,¹ replacing the Research Roadmap that had served as HUD's research plan since 2014.² Drawing on extensive input from practitioners, advocates, people with lived experience in HUD programs, researchers, and policymakers at the Federal, State, and local levels, the Learning Agenda identifies the Department's priority learning and evidence needs and proposes research, evaluation, and data linkage projects to address those needs. The Learning Agenda covers a period of five years, with an annual review and update process. Accompanying the Learning Agenda, HUD also published Annual Evaluation Plans, which describe the significant evaluation activities HUD expects to launch each year as well as the major ongoing evaluation activities. To date, HUD has published Annual Evaluation Plans for 2022 and 2023.³

¹ The Learning Agenda is posted publicly on the Learning Agenda page of the HUD User website at https://www.huduser.gov/portal/about/pdr_learningagenda.html. PD&R hosts a dedicated email address (HUDLearningAgenda@huduser.gov) where visitors to the site can send questions, comments, or suggestions on HUD's research, evaluation, and evidence-building activities.

² All three Research Roadmaps produced by HUD are available at https://www.huduser.gov/portal/about/pdr_learningagenda.html.

³ The Annual Evaluation Plans are posted publicly on the Learning Agenda page of the HUD User website at https://www.huduser.gov/portal/about/pdr_learningagenda.html. PD&R hosts a dedicated email address (HUDLearningAgenda@huduser.gov) where visitors to the site can send questions, comments, or suggestions on HUD's research, evaluation, and evidence-building activities.

HUD plans to publish the next five-year Learning Agenda in 2027, covering the years 2027-2031. In the years preceding the publication of the 2027-2031 Learning Agenda, PD&R will conduct a periodic stakeholder engagement process to review and update the published Learning Agenda. This RFI is one component of HUD's stakeholder engagement process. The goal of the stakeholder engagement process is to identify new research and data priorities not included in the Learning Agenda that reflect emerging or unanticipated needs and knowledge gaps that, if answered, could help advance HUD's mission and strategic plan. This includes learning questions that relate to HUD programs and priorities that were not in place at the time the Learning Agenda: FY 2022-2026 was published. HUD will use the information obtained through this RFI and other forms of stakeholder engagement to produce the Learning Agenda Supplement: Fiscal Year 2023. The Learning Agenda Supplement: Fiscal Year 2023 will identify new priority learning questions not reflected in the published Learning Agenda as well as potential adjustments to the published priority questions. HUD will publish the Learning Agenda Supplement: Fiscal Year 2023 on its HUD User website alongside the Learning Agenda: FY 2022-2026.

II. Purpose of This Request for Information

The purpose of this RFI is to solicit information regarding new research and data priorities that should be considered for incorporation into the Learning Agenda Supplement: Fiscal Year 2023 as well as adjustments to existing research and data priorities.

III. Specific Information Requested

While PD&R welcomes all comments relevant to HUD's Learning Agenda, PD&R is particularly interested in receiving input from interested parties on the questions outlined below. In responding to these questions, interested parties should reference the Learning Agenda: FY 2022-2026, available at https://www.huduser.gov/portal/about/pdr_learningagenda.html.

1. Are there new priority learning questions (i.e., not already included in the Learning Agenda: FY 2022-2026) that reflect emerging or unanticipated needs and knowledge gaps and that, if answered, could help advance HUD's mission?

2. Are there new priority data needs (i.e., not already included in the Learning Agenda: FY 2022-2026) that reflect emerging or unanticipated needs and knowledge gaps and that, if addressed, could help advance HUD's mission?

3. Does the Learning Agenda: FY 2022-2026 contain learning questions or data priorities that need to be adjusted either because priorities have shifted or because they have been addressed through evidence-building activities by HUD or others?

4. Are there any additional comments on how HUD's Learning Agenda could be enhanced or improved to strengthen the evidence base for HUD's mission of creating strong, sustainable, inclusive communities and quality, affordable homes for all?

Solomon Greene,
Principal Deputy Assistant Secretary—Office of the Assistant Secretary for Policy Development and Research.

[FR Doc. 2023-02740 Filed 2-8-23; 8:45 am]

BILLING CODE 4210-67-P